DEPARTMENT OF AGRICULTURE

Rural Business-Cooperative Service

Notice of Contract Proposals (NOCP) for the 9005 Advanced Biofuel Payment Program for Fiscal Years 2019 and 2020

AGENCY: Rural Business-Cooperative Service, USDA.

ACTION: Notice.

SUMMARY: This Notice announces the acceptance of applications to enter into Contracts to make payments to eligible advanced biofuel producers under the Bioenergy Program for Advanced Biofuels to support and ensure an expanding production of advanced biofuels. To be eligible for payments, advanced biofuels must be produced from renewable biomass, excluding corn kernel starch, in a biorefinery located in a State.

This Notice is being published concurrently with the issuance of the Bioenergy Program for Advanced Biofuels final rule. The Agency did not request applications, nor make payments in Fiscal Year 2019 pending the rule's promulgation/publication. This notice announces the availability of up to $7 million for each of two Fiscal Years, 2019 and 2020, to make payments to eligible advanced biofuel producers for the production of eligible advanced biofuels.

DATES: Applications for enrollment in the Advanced Biofuel Payment Program for each of the Fiscal Years 2019 and 2020 will be accepted from December 18, 2019 through February 18, 2020. A separate Enrollment Application is required for each fiscal year. Enrollment applications received after 4:30 p.m. local time on February 18, 2020 will not be considered, regardless of postmark.

Payment Request applications for each of the four quarters of Fiscal Year 2019 are to be submitted simultaneously with the FY 2019 Enrollment Application. Fiscal Year 2019 Payment Request applications received after 4:30 p.m. local time February 18, 2020 will not be considered, regardless of postmark.

Payment Request applications for Fiscal Year 2020 are to be submitted as specified in 7 CFR 4288.130.

ADDRESSES: Applications must be submitted to the USDA Rural Development State Office for the State where the Producer is located. A list of USDA Rural Development State Energy Coordinator contacts can be found via the link: https://www.rd.usda.gov/files/RBS_StateEnergyCoordinators_0.pdf.

FOR FURTHER INFORMATION CONTACT: For information about the Advanced Biofuel Payment Program, please contact the USDA Rural Development Energy Coordinator, as provided in the ADDRESSES above, or Lisa Noty, Energy Programs, USDA Rural Development, 511 W 7th Street, Atlantic, IA 50022. Telephone: 712-254-4366. Email: lisa.noty@usda.gov.

SUPPLEMENTARY INFORMATION:

Fiscal Years 2019 and 2020 Applications for the Advanced Biofuel Payment Program

Applicants must be registered in the System for Award Management (SAM) prior to submitting an application; which can be obtained at no cost via a toll-free request line at (866) 705-5711 or online at https://www.sam.gov/SAM/. Registration of a new entity in SAM requires an original, signed, and notarized letter stating that the applicant is the authorized Entity Administrator, before the registration will be activated.

All applicants, except those that are individuals, are required to have a Dun and Bradstreet Universal Numbering System (DUNS) number, which can be obtained online at http://fedgov.dnb.com/webform.

Overview

Solicitation Opportunity Type: Advanced Biofuel Payment Program.

Announcement Type: Solicitation Announcement; Concurrent with publication of final rule.

Catalog of Federal Domestic Assistance Number: 10.867.

Dates: The sign-up periods for participation for Fiscal Years 2019 and 2020 are identified in DATES.

A. Program Description

1. Purpose of the Program. The purpose of this program is to support and ensure an expanding production of advanced biofuels by providing payments to eligible advanced biofuel producers. Implementing this program promotes the Agency mission of sustainable economic development in rural America and is an important part of achieving Administration goals for increased biofuel production.

2. Statutory Authority. This program is authorized under 7 U.S.C. 8105.

3. Definition of Terms. The definitions applicable to this Notice are published in 7 CFR 4288.102.

4. Application Awards. This program makes payments to eligible advanced biofuel producers for the production of eligible advanced biofuels and is administered according to the provisions found in 7 CFR part 4288 subpart B, and as indicated in this Notice. The Agency advises all interested parties that applicants bear the burden in preparing and submitting an application in response to this Notice whether or not funding is appropriated for this Program in FY 2020.

Availability of Notice and Rule: This Notice and the final rule for the Advanced Biofuel Payment Program are available on the USDA Rural Development website at http://www.rd.usda.gov/BCP_Biofuels.html.

B. Federal Award Information

Type of Awards: Payments.

Fiscal Year Funds: FY 2019 and FY 2020.

Available Funds: In accordance with the Agricultural Act of 2018 (Pub. L. 115-334), the Agency is authorized to provide up to $7 million for this program for the production of advanced biofuels in each of Fiscal Years 2019 and 2020.

Approximate Number of Awards: The number of awards will depend on the number of participating advanced biofuel producers.

Range of Amounts of Each Payment: There is no minimum payment amount that an individual producer can receive. The maximum payment amount that an individual producer or group of producers can receive is specified in 7 CFR 4288.131(e). The amount that each producer receives will depend on the number of eligible advanced biofuel producers participating in the program for the respective fiscal year, the amount of advanced biofuels produced by such advanced biofuel producers, and the amount of funds available.

Award Dates: As specified in 7 CFR 4288.131.

Performance Period: October 1, 2018, through September 30, 2019; October 1, 2019, through September 30, 2020.

Renewal or Supplemental Awards: None.

Contract: All producers wishing to participate in this program must enroll and enter into contracts with the Agency as provided for in 7 CFR 4288.120 and 7 CFR 4288.121, respectively, and as otherwise specified in this Notice.

Production Period: Payments to participating advanced biofuel producers under this Notice will be made on actual eligible advanced biofuels produced from October 1, 2018, through September 30, 2019, and from October 1, 2019, through September 30, 2020, in accordance with 7 CFR part 4288 subpart B and as otherwise specified in this Notice.

Type of Instrument: Payment.

C. Eligibility Information

1. Eligible Applicants.

To be eligible for this program, an applicant must meet the eligibility requirements specified in 7 CFR 4288.110.

2. Biofuel Eligibility.

To be eligible for payment, an advanced biofuel must meet the eligibility requirements specified in 7 CFR 4288.111.

3. Payment Eligibility.

To be eligible for program payments, an advanced biofuel producer must maintain the records specified in 7 CFR 4288.113.

D. Application and Submission Information

1. Address to Request Applications.

Annual Enrollment Application, Contract, and Payment Request Application forms are available from the USDA Rural Development State Office, Rural Development Energy Coordinator (contact information provided in the SUPPLEMENTARY INFORMATION section of this Notice).

2. Content and Form of Application Submission.

The enrollment provisions, including application content and form of submission, are specified in 7 CFR 4288.120 and 4288.121.

3. Submission Dates and Times.

(a) Enrollment. Producers must submit a new Enrollment application for each fiscal year, in which they wish to be considered. The Biofuel Payment Program Annual Application, Form RD 4288-1, must be received by the submission deadline specified in DATES.

(b) Payment applications. Advanced biofuel producers must submit Form RD 4288-3, “Advanced Biofuel Payment Program—Payment Request,” for each of the four Federal fiscal quarters for each fiscal year. Pay requests for each quarter must be received by the submission deadlines as identified in DATES.

4. Funding Restrictions.

(a) Commodity. Not more than one third (⅓) of the funds in any fiscal year will be made available to one or more eligible producers of advanced biofuels derived from a single eligible Commodity (as defined in 7 CFR 4288.102) including intermediate ingredients of that single Commodity or use of that single Commodity and its intermediate ingredients in combination with another Commodity.

(b) Large producers. Not more than five (5) percent of the funds in any fiscal year will be made available to Large Producers (as defined in 7 CFR 4288.102).

(c) Individual producers. Not more than eight (8) percent of program funds will be made available in any fiscal year to any eligible producer of advanced biofuels, that is not a Large producer, to limit the amount of payments that may be received by a single eligible producer under this section in order to distribute the total amount of funding available in an equitable manner.

The remaining funds will be made available to all other producers.

E. Application Review Information

Payments will be made according to the provisions specified in 7 CFR 4288.130 through 4288.137, unless otherwise specified in this Notice.

F. Federal Award Administration Information

1. Notice of Eligibility. The provisions of 7 CFR 4288.112 apply to this Notice. These provisions include notifying an applicant determined to be eligible for participation and assigning such applicant a contract number and notifying an applicant determined to be ineligible, including the reason(s) the applicant was rejected and providing such applicant appeal rights as specified in 7 CFR 4288.103.

2. Administrative and National Policy Requirements.

(a) Review or appeal rights. A person may seek a review of an adverse agency decision or appeal to the National Appeals Division as provided in 7 CFR 4288.103.

(b) Compliance with other laws and regulations. The provisions of 7 CFR 4288.104 apply to this Notice, which includes requiring advanced biofuel producers to be in compliance with other applicable Federal, State, and local laws.

(c) Oversight and monitoring. The provisions of 7 CFR 4288.105 apply to this Notice.

(d) Exception authority. The provisions of 7 CFR 4288.107 apply to this Notice.

(e) Unauthorized Assistance. The provisions of 7 CFR 4288.135 apply to this Notice.

G. Federal Awarding Agency Contacts

For assistance on this payment program, please contact a USDA Rural Development Energy Coordinator, as provided in the SUPPLEMENTARY INFORMATION section of this Notice, or Lisa Noty, Energy Programs, USDA Rural Development, 511 W 7th Street, Atlantic, IA. Telephone: (712) 243-2107 extension 116. Email: lisa.noty@usda.gov.

H. Civil Rights Requirements

All grants made under this notice are subject to Title VI of the Civil Rights Act of 1964 as required by the USDA (7 CFR part 15, subpart A) and Section 504 of the Rehabilitation Act of 1973, Title VIII of the Civil Rights Act of 1968, Title IX of the Civil Rights Act of 1968, Executive Order 13166 (Limited English Proficiency), Executive Order 11246, and the Equal Credit Opportunity Act of 1974.

I. Other Information

Paperwork Reduction Act

In accordance with the Paperwork Reduction Act of 1995, the information collection requirement contained in this notice is approved by OMB under OMB Control Number 0570-0070.

Federal Funding Accountability and Transparency Act

All applicants, in accordance with 2 CFR part 25, must have a DUNS number, which can be obtained at no cost via a toll-free request line at (866) 705-5711 or online at http://fedgov.dnb.com/webform. Similarly, all applicants applying for grant funds must be registered in SAM prior to submitting an application. Applicants may register for the SAM at http://www.sam.gov/SAM. All recipients of Federal financial grant assistance are required to report information about first-tier sub-awards and executive total compensation in accordance with 2 CFR part 170.

Environmental Review

This document has been reviewed in accordance with 7 CFR part 1970, subpart A, “Environmental Policies.” The Agency has determined that this action does not constitute a major Federal action significantly affecting the quality of the human environment, and in accordance with the National Environmental Policy Act (NEPA) of 1969, Public Law 91-190, neither an Environmental Assessment nor an Environmental Impact Statement is required. Payment applications will be reviewed individually to determine compliance with NEPA.

Nondiscrimination Statement

In accordance with Federal civil rights law and U.S. Department of Agriculture (USDA) civil rights regulations and policies, the USDA, its agencies, offices, and employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

USDA is an equal opportunity provider, employer, and lender.

Bette Brand,
Administrator, Rural Business-Cooperative Service.

[FR Doc. 2019-27215 Filed 12-17-19; 8:45 am]

BILLING CODE P